FEDERAL ELECTION COMMISSION

Sunshine Act Notices

Previously announced date and time: Tuesday, August 20, 2002. Meeting closed to the public. This meeting was cancelled.

Date & Time: Tuesday, August 27, 2002 at 10 a.m.

Place: 999 E Street, NW., Washington, DC.

Status: This meeting will be closed to the public.

Items to be Discussed:

Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date & Time: Wednesday, August 28, 2002 and Thursday, August 29, 2002.

Place: 999 E Street, NW., Washington, DC (Ninth floor).

Status: This hearing will be open to the public.

Matter Before the Commission:

Electioneering Communications: Notice of Proposed Rulemaking.

FOR FURTHER INFORMATION CONTACT: Mr. Ron Harris, Press Officer, Telephone: (202) 694-1220.

Mary W. Dove,
Secretary of the Commission.

[FR Doc. 02-21597 Filed 8-20-02; 3:49 pm]

BILLING CODE 6715-01-M